DEPARTMENT OF TRANSPORTATION

Federal Aviation Administration

Eleventh RTCA SC-228 Minimum Performance Standards (MPS) for UAS Plenary Session

AGENCY: Federal Aviation Administration (FAA), U.S. Department of Transportation (DOT).

ACTION: Eleventh RTCA SC-228 Minimum Performance Standards (MPS) for UAS Plenary Session.

SUMMARY: The FAA is issuing this notice to advise the public of a meeting of Eleventh RTCA SC-228 Minimum Performance Standards (MPS) for UAS Plenary Session.

DATES: The meeting will be held October 03-07, 2016 09:00 a.m.-04:30 p.m.

ADDRESSES: The meeting will be held at: RTCA Headquarters, 1150 18th Street NW., Suite 910, Washington, DC 20036.

FOR FURTHER INFORMATION CONTACT: Albert Secen at asecen@rtca.org or 202-330-0647, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Eleventh RTCA SC-228 Minimum Performance Standards (MPS) for UAS Plenary Session The agenda will include the following:

SC-228 Plenary #11 Agenda

October 3, 2016

Working Group Breakout Sessions

October 4, 2016

Working Group Breakout Sessions

October 5, 2016

Working Group Breakout Sessions

October 6, 2016

Working Group Breakout Sessions

October 7, 2016

Plenary Session

1. Welcome/Introductions/Administrative Remarks/SC-228 Participation Guidelines

a. Reading of the Public Announcement by the DFO

b. Reading of the RTCA Proprietary References Policy

2. Agenda Overview

3. Review/Approval of Minutes From Plenary #10

4. Review of RTCA Steering Committee Activity

5. Report From WG-1 for DAA MOPS

a. DAA MOPS Document Approval

b. Air-to-Air Radar MOPS Document Approval

6. Report From WG-2, C2

7. Report From Phase 2 TOR WG

8. Action Item Review

9. Other Business

10. Date, Place and Time of Next Meeting(s)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 6, 2016.
Mohannad Dawoud,
Management & Program Analyst, Partnership Contracts Branch, ANG-A17, NextGen, Procurement Services Division, Federal Aviation Administration.

[FR Doc. 2016-21738 Filed 9-8-16; 8:45 am]

BILLING CODE 4910-13-P